DEPARTMENT OF TRANSPORTATION

Federal Aviation Administration

14 CFR Part 73

[Docket No. FAA-2006-26351; Airspace Docket No. 06-ASO-12]

RIN 2120-AA66

Change of Controlling Agency and Using Agency for Restricted Areas R-6608A, B, and C; Quantico, VA

AGENCY: Federal Aviation Administration (FAA), DOT.

ACTION: Final rule.

SUMMARY: This action changes the names of the controlling agency and using agency for Restricted Areas R-6608A, B, and C, Quantico, VA. The FAA is taking this action at the request of the U.S. Marine Corps to reflect the current organizational names. This is an administrative change that does not alter the boundaries, designated altitudes, time of designation, or activities conducted within the affected restricted areas.

DATES: Effective Dates: 0901 UTC, January 18, 2007.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

The Rule

This action amends Title 14 Code of Federal Regulations (14 CFR) part 73 by changing the name of the controlling agency for Restricted Areas R-6608A, B, and C, Quantico, VA, from “FAA, Potomac Approach,” to “FAA, Potomac TRACON.” In addition, this action changes the name of the using agency for the restricted areas from “U.S. Marine Corps, Commanding General, Marine Corps Development and Education Command, Quantico, VA,” to “U.S. Marine Corps, Commanding General, Marine Corps Base, Quantico, VA.” These changes are administrative only and do not affect the boundaries, designated altitudes, or activities conducted within the restricted areas. Therefore, notice and public procedures under 5 U.S.C. 553(b) is unnecessary.

Section 73.66 of Title 14 CFR part 73 was republished in FAA Order 7400.8M, dated January 6, 2006.

The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.66 [Amended]

2. § 73.66 is amended as follows:

* * * * *

R-6608A Quantico, VA [Amended]

Under Controlling agency by removing the words “FAA, Potomac Approach,” and inserting the words “FAA, Potomac TRACON;” and Under Using agency, by removing the words “U.S. Marine Corps, Commanding General, Marine Corps Development and Education Command, Quantico, VA,” and inserting the words “U.S. Marine Corps, Commanding General, Marine Corps Base, Quantico, VA.”

R-6608B Quantico, VA [Amended]

Under Controlling agency by removing the words “FAA, Potomac Approach,” and inserting the words “FAA, Potomac TRACON;” and Under Using agency, by removing the words “U.S. Marine Corps, Commanding General, Marine Corps Development and Education Command, Quantico, VA,” and inserting the words “U.S. Marine Corps, Commanding General, Marine Corps Base, Quantico, VA.”

R-6608C Quantico, VA [Amended]

Under Controlling agency by removing the words “FAA, Potomac Approach,” and inserting the words “FAA, Potomac TRACON;” and Under Using agency, by removing the words “U.S. Marine Corps, Commanding General, Marine Corps Development and Education Command, Quantico, VA,” and inserting the words “U.S. Marine Corps, Commanding General, Marine Corps Base, Quantico, VA.”

* * * * *

Issued in Washington, DC on November 22, 2006.
Edith V. Parish,
Manager, Airspace and Rules.

[FR Doc. E6-20490 Filed 12-4-06; 8:45 am]

BILLING CODE 4910-13-P